DEPARTMENT OF THE INTERIOR

Fish and Wildlife Service

50 CFR Parts 21 and 22

[FWS-R9-MB-2009-0002; 91200-1231-9BPP]

RIN 1018-AW44

Migratory Bird Permits; Changes in the Regulations Governing Falconry

Correction

In rule document 2010-12 beginning on page 927 in the issue of Thursday, January 7, 2010, make the following corrections:

1. On page 929, in the first column, under the Revisions to the Falconry Regulations heading, in the third line, “(d)(1)(ii)(A)(4)” should read “(d)(1)(ii)(A)(4)”.

2. On the same page, in the second column, in paragraph (5), in the second line, “§21.29(d)(1)(ii)(A)(4)” should read “§21.29(d)(1)(ii)(A)(4)”.

§21.29 [Corrected]

3. On page 931, in §21.29, in the first column, in amendatory instruction 3., in paragraph a., in the third line, “(c)(3)(i)(C)(1), (2), and (3)” should read “(c)(3)(i)(C)(1), (2), and (3)”.

4. On the same page, in the same section, in the same column, in amendatory instruction 3., in paragraph e., in the third line, “(c)(3)(iv)(A)(1) and (2)” should read “(c)(3)(iv)(A)(1) and (2)”.

5. On the same page, in the same section, in the same column, in amendatory instruction 3., in paragraph f., in the second line, “(c)(3)(iv)(A)(2)” should read “(c)(3)(iv)(A)(2)”.

6. On the same page, in the same section, in the same column, in amendatory instruction 3., in paragraph k., in the third and fourth lines, “(d)(1)(ii)(A)(1), (2), (3), and (4)” should read “(d)(1)(ii)(A)(1), (2), (3), and (4)”.

7. On the same page, in the same section, in the same column, in amendatory instruction 3., in paragraph m., in the third line, “(d)(1)(ii)(B)(1) and (2)” should read “(d)(1)(ii)(B)(1) and (2)”.

8. On the same page, in the same section, in the same column, in amendatory instruction 3., in paragraph m., in the fifth line, “(d)(1)(ii)(D)(1), (2), and (3)” should read “(d)(1)(ii)(D)(1), (2), and (3)”.

9. On the same page, in the same section, in the second column, in paragraph s., in the third line, “(e)(3)(vi)(C)(1) and (2)” should read “(e)(3)(vi)(C)(1) and (2)”.

10. On the same page, in the same section, in the third column, in paragraph (4), in the first line, “(4)” should read “(4)”.

[FR Doc. C1-2010-12 Filed 1-20-10; 8:45 am]

BILLING CODE 1505-01-D